DEPARTMENT OF ENERGY

Federal Energy Regulatory Commission

[Project No. 12496-002; Rugraw, LLC]

Notice of Joint Scoping Meetings With the California State Water Resources Control Board and Environmental Site Review and Soliciting Scoping Comments

Take notice that the following hydroelectric applications have been filed with the Federal Energy Regulatory Commission (FERC or Commission) and are available for public inspection:

a. Type of Application: Major Original License.

b. Project No.: 12496-002.

c. Date filed: April 21, 2014.

d. Applicant: Rugraw, LLC.

e. Name of Project: Lassen Lodge Hydroelectric Project.

f. Location: On the South Fork Battle Creek, nearby the Town of Mineral, Tehama County, California. No federal lands or Indian reservations are located within the proposed project boundary.

g. Filed Pursuant to: Federal Power Act, 16 U.S.C. 791(a)-825(r).

h. Applicant Contact: Charlie Kuffner, 70 Paseo Mirasol, Tiburon, CA 94920; (415) 652-8553.

i. FERC Contact: Adam Beeco at (202) 502-8655; email-adam.beeco@ferc.gov.

California State Water Board Contact: Michelle Lobo at (916) 327-3117; email—michelle.lobo@waterboards.ca.gov.

j. With this notice, we are soliciting comments on the Commission's staff Scoping Document 1 (SD1). Deadline for filing scoping comments: December 5, 2014 (5:00 p.m. EST; 2:00 p.m. PST).

Scoping comments should be filed separately with the Commission and the California State Water Resources Control Board (State Water Board), as noted below.

Commission

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12496-002.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

State Water Board

Written comments should be provided as noted below. When submitting your comments, provide the contact person's name and phone number. The State Water Board is seeking information regarding what type of environmental document should be prepared (i.e., negative declaration, mitigated negative declaration, or environmental impact report), as well as scoping comments.

State Water Resources Control Board, Division of Water Rights, Water Quality Certification Program, Attention: Michelle Lobo, P.O. Box 2000, Sacramento, CA 95812-2000, Phone: (916) 327-3117, Fax: (916) 341-5400, Email: Michelle.Lobo@waterboards.ca.gov.

k. This application is not ready for environmental analysis at this time.

l. The proposed Lassen Lodge Project consists of: (1) A 6-foot-high and 94-foot-long diversion dam; (2) an impoundment of approximately 0.5 acre; (3) a 20 by 10 foot enclosed concrete intake structure; (4) a 7,258-foot-long pipeline and a 5,230-foot-long penstock with a net head of 791 feet; (5) a 50 by 50 foot powerhouse containing one generating unit with a 5,000-kilowatt capacity; (6) a 50 by 50 foot substation area; (7) a 40 by 35 foot switchyard; (8) 100 by 100 foot multipurpose area; and (9) a new 12-mile-long, 60-kilovolt transmission line. The project is estimated to produce approximately 25,000,000 kilowatt hours annually.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item “h.” above.

You may also register online at http://www.ferc.gov/docs-filing/esubscription.asp to be notified via email of new filings and issuances related to this or other pending projects. For assistance, contact FERC Online Support.

n. Scoping Process

The Commission intends to prepare an Environmental Assessment (EA) on the project in accordance with the National Environmental Policy Act. The EA will consider both site-specific and cumulative environmental impacts and reasonable alternatives to the proposed action.

The State Water Board has not determined what type of environmental document it will prepare at this time and is seeking input from agencies and interested parties as part of the scoping process.

Scoping Meetings

In addition to written comments solicited by this SD1, we will hold two public scoping meetings and an Environmental Site Review in the vicinity of the project. A daytime meeting will focus on concerns of the resource agencies, nongovernmental organizations (NGOs), and Indian tribes. An evening meeting will focus on receiving input from the public. We invite all interested agencies, Indian tribes, NGOs, and individuals to attend one or both of the meetings to assist us in identifying the scope of environmental issues that should be analyzed in the EA and the State Water Board's environmental document.

These scoping meetings are being coordinated with the State Water Board and are considered joint scoping meetings for the purposes of both the National Environmental Policy Act (NEPA) and the California Environmental Quality Act (CEQA), should the State Water Board prepare an environmental impact report (EIR). (See Cal. Code Regs., tit. 14, 15083, 15223, 15226.) This notice is intended to provide notice of the State Water Board's informal consultation with responsible and trustee agencies pursuant to section 15063 of the CEQA Guidelines as to the potential for the proposed action to cause a significant impact to the environment. (Cal. Code Regs., tit. 14, 15063, subd. (g).) Recipients of this notice are invited to comment on whether an EIR, negative declaration, or mitigated negative declaration should be prepared. In addition, pursuant to CEQA Guidelines section 15083, subdivision (c), these meetings are intended to simultaneously serve the purposes identified in California Code of Regulations, title 14, section 15082, subdivision (c). Any responsible or trustee agency or other interested parties that believes an EIR should be prepared should identify the scope and content of any environmental information it believes should be required, should the State Water Board prepare an EIR.

The times and locations of the meetings are as follows:

Daytime Scoping Meeting

Date and Time: Wednesday, November 5, 2014, 9:00 a.m. (PST).

Location: Cal/EPA Building at 1001 I Street, Sacramento, California. Byron Sher Auditorium on the 2nd floor.

Phone number: Michelle Lobo—(916) 327-3117, Webcast: http://www.calepa.ca.gov/Broadcast/.

Paid parking is available in the parking garage across from the Cal/EPA Building. Metered parking is available on nearby and adjacent streets. Information on traveling to the Cal/EPA Building is available online at: http://www.calepa.ca.gov/EPABldg/location.htm.

Please enter the Cal/EPA Building through the public entrance at the corner of 10th Street and I Street. Once you enter the building, go to the Visitor's Center located on the left. You will need to sign-in at the Visitor's Center and receive a badge for the 1st and 2nd floors. The Byron Sher Auditorium is on the 2nd floor and may be accessed by using the elevator or stairs.

Evening Scoping Meeting

Date and Time: Wednesday, November 5, 2014, 7:00 p.m. (PST).

Location: Holiday Inn Express Hotel, 2810 Main St., Red Bluff, California.

Phone number: Front Desk—(530) 528-1600.

Copies of the SD1 outlining the subject areas to be addressed in the EA were distributed to the parties on the Commission's mailing list. Copies of the SD1 will be available at the scoping meeting or may be viewed on the web at http://www.ferc.gov using the “eLibrary” link (see item m above).

Environmental Site Review

The Applicant and FERC staff will conduct a project Environmental Site Review beginning at 8:00 a.m. (PST) on Thursday, November 6, 2014. All interested individuals, organizations, and agencies are invited to attend. All participants should meet at the Walmart Parking Lot, 1025 S. Main St., Red Bluff, California. All participants are responsible for their own transportation to the meeting site. Anyone with questions about the Environmental Site Review (or needing directions) should contact Charlie Kuffner of Rugraw, LLC at (415) 652-8553 or email at charlie.kuffner@gmail.com. Those individuals planning to participate in the Environmental Site Review should notify Mr. Kuffner of their intent, no later than Friday, October 31, 2014. For more details about the Environmental Site Review, including meeting locations, transportation options, meal options, and the itinerary, please see the information in Appendix A of the SD1.

Objectives

At the scoping meetings, the staff will: (1) Summarize the environmental issues tentatively identified for analysis in the EA and CEQA document; (2) solicit from the meeting participants all available information, especially quantifiable data, on the resources at issue; (3) encourage statements from experts and the public on issues that should be analyzed in the EA, and CEQA document, including viewpoints in opposition to, or in support of, the staffs' preliminary views; (4) determine the resource issues to be addressed in the EA and CEQA document; (5) identify those issues that require a detailed analysis, as well as those issues that do not require a detailed analysis; (6) solicit from the meeting participants, input to the State Water Board on the type of CEQA document that should be prepared, and (7) solicit from any responsible or trustee agency or other interested parties that believes an EIR should be prepared, environmental information to identify the scope and content of an EIR should the State Water Board determine an EIR should be prepared.

Procedures

The meetings will be recorded by a stenographer and become part of the formal record of the Commission and State Water Board proceedings on the project.

Individuals, organizations, and agencies with environmental expertise and concerns are encouraged to attend the meeting(s) and to assist the staff in defining and clarifying the issues to be addressed in the EA and CEQA document.

Dated: October 3, 2014.
Kimberly D. Bose,
Secretary.

[FR Doc. 2014-24299 Filed 10-10-14; 8:45 am]

BILLING CODE 6717-01-P